DEPARTMENT OF ENERGY

Federal Energy Regulatory Commission

Sunshine Act Meeting Notice

June 8, 2005.

The following notice of meeting is published pursuant to section 3(a) of the government in the Sunshine Act (Pub. L. 94-409), 5 U.S.C 552b:

Agency Holding Meeting: Federal Energy Regulatory Commission.

Date and Time: June 15, 2005; 10 a.m.

Place: Room 2C, 888 First Street, NE., Washington, DC 20426.

Status: Open.

Matters To Be Considered: Agenda. *Note—Items listed on the agenda may be deleted without further notice.

Contact Person for More Information: Magalie R. Salas, Secretary, Telephone (202) 502-8400.

For a recorded listing items stricken from or added to the meeting, call (202) 502-8627.

This is a list of matters to be considered by the Commission. It does not include a listing of all papers relevant to the items on the agenda; however, all public documents may be examined in the Public Reference Room.

892nd—Meeting; Regular Meeting; June 15, 2005; 10 a.m.
Item No. | Docket No. | Company
Administrative Agenda
A-1 | AD02-7-000 | Customer Matters, Reliability, Security and Market Operations.
A-2 | AD02-1-000 | Agency Administrative Matters.
A-3 | MO05-4-000 | State of the Markets Report.
Markets, Tariffs, and Rates—Electric
E-1 | ER96-110-013 | Duke Power, Division of Duke Energy Corporation.
| EL05-4-000
E-2 | ER91-569-023 | Entergy Services, Inc.
| ER91-569-024
| ER91-569-008
| EL04-123-000
E-3 | ER97-4166-019 | Southern Company Energy Marketing, Inc.
| ER96-780-009 | Southern Company Services, Inc.
| EL04-124-002
| EL04-124-000
E-4 | ER01-3155-007 | New York Independent System Operator, Inc. and Consolidated Edison Co. of New York, Inc.
| EL01-45-015
| ER01-1385-016
E-5 | ER04-691-024 | Midwest Independent Transmission System Operator, Inc.
| EL04-104-023 | Public Utilities With Grandfathered Agreements in the Midwest ISO Region.
E-6 | EL05-80-000 | Southern California Edison Company.
E-7 | RM02-1-006 | Standardization of Generator Interconnection Agreements and Procedures.
E-8 | RM04-14-001 | Reporting Requirement for Changes in Status for Public Utilities With Market-Based Rate Authority.
E-9 | ER05-636-000 | Midwest Independent Transmission System Operator, Inc.
| ER05-636-001
| ER05-662-000
| ER05-662-001
| ER05-864-000
| ER05-881-000
E-10 | ER05-837-000 | American Electric Power Service Corporation.
E-11 | ER05-844-000 | Pacific Gas and Electric Company.
E-12 | ER05-850-000 | Brownsville Power I, L.L.C.
| ER05-851-000 | Caledonia Power I, L.L.C.
| ER05-852-000 | Cinergy Capital & Trading, Inc.
E-13 | ER05-853-000 | San Diego Gas & Electric Company.
E-14 | Omitted
E-15 | Omitted
E-16 | ER05-912-000 | Calpine Construction Finance Company, L.P.
E-17 | ER96-1085-006 | South Carolina Electric & Gas Company.
| ER96-1085-007
E-18 | Omitted
E-19 | ER01-1011-002 | Redbud Energy LP.
| ER01-1011-003
| ER01-1011-004
| ER01-1011-005
E-20 | ER01-3103-007 | Astoria Energy LLC.
| ER01-3103-008
| ER01-3103-009
E-21 | Omitted
E-22 | ER03-647-006 | New York Independent System Operator, Inc.
E-23 | ER99-4160-003 | Dynery Power Marketing, Inc.
| ER99-4160-007
| ER98-1127-005 | El Segundo Power, LLC.
| ER98-1127-006
| ER98-1796-004 | Long Beach Generation LLC.
| ER98-1796-005
| ER99-1115-005 | Cabrillo Power I LLC.
| ER99-1115-006
| ER99-1116-005 | Cabrillo Power II LLC.
| ER99-1116-006
| ER99-1567-002 | Rockingham Power, L.L.C.
| ER99-1567-003
| ER99-2157-002 | Rocky Road Power, LLC.
| ER99-2157-003
| ER00-1049-003 | Calcasieu Power, LLC.
| ER00-1049-004
| ER00-1895-002 | Dynery Midwest Generation, Inc.
| ER00-1895-004
| ER01-140-002 | Dynery Danskammer, L.L.C.
| ER01-140-003
| ER01-141-002 | Dynery Roseton, L.L.C.
| ER01-141-003
| ER01-943-002 | Heard County Power, LLC.
| ER01-943-003
| ER01-1044-002 | Riverside Generating Company, L.L.C.
| ER01-1044-004
| ER01-3109-002 | Renaissance Power, L.L.C.
| ER01-3109-004
| ER02-506-002 | Bluegrass Generation Company, L.L.C.
| ER02-506-004
| ER02-553-001 | Rolling Hills Generating, L.L.C.
| ER02-553-003
| ER98-2782-002 | AG-Energy, L.P., Power City Partners, L.P., Seneca Power Partners, L.P., and Sterling Power Partners, L.P.
| ER98-2782-003
| ER98-2782-006
| ER98-2782-007
| ER98-2782-008
| ER02-2202-001 | Sithe Energy Marketing, LP.
| ER02-2202-005
| ER02-2202-006
| ER02-2202-007
| ER03-42-006 | Sithe/Independence Power Partners, L.P.
| ER03-42-007
| ER03-42-008
E-24 | ER00-895-006 | Onodago Cogeneration Limited Partnership.
| ER00-895-001
E-25 | Omitted
E-26 | Omitted
E-27 | EL04-70-000 | Kansas Gas and Electric Company.
| EL04-72-000 | Oklahoma Gas and Electric Company.
E-28 | IN03-10-008 | Investigation of Anomalous Bidding Behavior and Practices in the Western Markets.
E-29 | ER05-270-002 | Dynery Midwest Generation, Inc.
| EL05-72-001
E-30 | ER04-1055-000 | Riverside Energy Center, LLC.
| ER04-1059-000 | RockGen Energy, LLC.
E-31 | ER04-886-000 | Entergy Services, Inc.
E-32 | Omitted
E-33 | Omitted
E-34 | Omitted
E-35 | ER03-1381-004 | Southern Company Services, Inc.
| ER03-1381-003
E-36 | ER05-439-001 | ISO New England Inc.
E-37 | Omitted
E-38 | Omitted
E-39 | Omitted
E-40 | ER05-366-000 | Sierra Pacific Power Company.
E-41 | ER05-170-000 | Southern California Edison Company.
| ER05-170-001
E-42 | PL03-1-000 | Pricing Policy for Efficient Operation and Expansion of Transmission Grid.
Miscellaneous Agenda
M-1 | RM02-4-003 | Critical Infrastructure Information.
| PL02-1-003
M-2 | PL03-3-006 | Price Discovery in Natural Gas and Electric Markets.
| AD03-7-006 | Natural Gas Price Formation.
Markets, Tariffs, and Rates—Gas
G-1 | PL05-8-000 | Creditworthiness Standards for Interstate Natural Gas Pipelines.
| RM04-4-000
G-2 | RP00-305-023 | CenterPoint Energy-Mississippi River Transmission Corporation.
G-3 | RP05-339-000 | North Baja Pipeline, LLC.
G-4 | RP04-171-001 | Portland Natural Gas Transmission System.
G-5 | Omitted
G-6 | RP02-309-005 | Sunoco, Inc. (R&M) v. Transcontinental Gas Pipe Line Corporation.
G-7 | RP03-398-000 | Northern Natural Gas Company.
| RP04-155-000
G-8 | Omitted
G-9 | AI05-1-000 | Jurisdictional Public Utilities and Licensees, Natural Gas Companies, Oil Pipeline Companies.
Energy Projects—Hydro
H-1 | P-1494-251 | Grand River Dam Authority.
H-2 | P-11659-004 | Gustavus Electric Company.
H-3 | P-2207-011 | Mosinee Paper Corporation.
H-4 | P-2237-014 | Georgia Power Company.
H-5 | P-2030-036 | Portland General Electric Company and Confederated Tribes of the Warms Springs Reservation of Oregon.
H-6 | P-2161-015 | Rhinelander Paper Company.
Energy Projects—Certificates
C-1 | CP05-2-000 | El Paso Natural Gas Company.
| CP05-2-001
C-2 | CP04-365-000 | Dominion Transmission, Inc.
C-3 | CP04-34-000 | Columbia Gas Transmission Corporation.
C-4 | CP05-64-000 | Florida Gas Transmission Company.
C-5 | CP05-87-000 | Kinder Morgan North Texas Pipeline, L.P.
C-6 | CP05-42-000 | Tennessee Gas Pipeline Company.
C-7 | CP04-395-000 | Vista Del Sol LNG Terminal LP.
| CP04-405-000 | Vista Del Sol Pipeline L.P.
| CP04-406-000
| CP04-407-000
C-8 | CP05-211-000 | EnCana Border Pipelines Limited.
C-9 | CP05-71-000 | Gulf South Pipeline Company, LP, Transcontinental Gas Pipe Line Corporation.
C-10 | CP97-169-004 | Alliance Pipeline L.P.
C-11 | Omitted

Magalie R. Salas,
Secretary.

The Capitol Connection offers the opportunity for remote listening and viewing of the meeting. It is available for a fee, live over the Internet, via C-Band Satellite. Persons interested in receiving the broadcast, or who need information on making arrangements should contact David Reininger or Julia Morelli at the Capitol Connection (703-993-3100) as soon as possible or visit the Capitol Connection Web site at http://www.capitolconnection.gmu.edu and click on “FERC”.

Immediately following the conclusion of the Commission Meeting, a press briefing will be held in Hearing Room 2. Members of the public may view this briefing in the Commission Meeting overflow room. This statement is intended to notify the public that the press briefings that follow Commission meetings may now be viewed remotely at Commission headquarters, but will not be telecast through the Capitol Connection service.

[FR Doc. 05-11859 Filed 6-10-05; 4:16 pm]

BILLING CODE 6717-01-P